DEPARTMENT OF EDUCATION

Reopening the Fiscal Year (FY) 2021 Competition for Certain Eligible Applicants; Education Innovation and Research (EIR) Program—Early-Phase Grants

AGENCY: Office of Elementary and Secondary Education, Department of Education.

ACTION: Notice.

SUMMARY: On July 28, 2021, we published in the Federal Register a notice inviting applications (NIA) for the FY 2021 Education Innovation and Research Program—Early-phase Grants, Assistance Listing Number 84.411C (Early-phase Grants). This notice reopens this competition to allow more time for the preparation and submission of applications by eligible applicants affected by the severe storm and flooding in the following counties in Tennessee: Dickson, Hickman, Houston, and Humphreys which have been designated for Individual Assistance or Public Assistance under Presidential major disaster declaration 4609-DR-TN (“affected applicants”).

DATES:

Deadline for Transmittal of Applications for Affected Applicants: September 13, 2021.

Deadline for Intergovernmental Review: November 12, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Yvonne Crockett, U.S. Department of Education, 400 Maryland Avenue SW, Room 3E344, Washington, DC 20202-5900. Telephone: (202) 453-7122. Email: eir@ed.gov.

If you use a telecommunications device for the deaf (TDD) or a text telephone (TTY), call the Federal Relay Service (FRS), toll-free, at 1-800-877-8339.

SUPPLEMENTARY INFORMATION:

On July 28, 2021, we published in the Federal Register (86 FR 40510) the NIA for EIR Early-phase Grants. Under the NIA, applications were due on August 27, 2021. We are reopening this competition for five days for affected applicants to allow those applicants more time to prepare and submit their applications.

Eligibility:

The reopening of this competition applies to eligible applicants under the Early-phase Grants competition that are affected applicants. An eligible applicant for the Early-phase Grant competition is defined in the NIA. The federally declared disaster areas under this declaration are the jurisdictions identified by the Federal Emergency Management Agency under declaration 4609-DR-TN in which assistance to individuals or public assistance has been authorized. To determine if you are an affected applicant, see the Emergency Declaration available at: www.fema.gov/disaster/4609 and https://www.fema.gov/disaster/4609/designated-areas.

An affected applicant submitting an application as part of the reopened competition must provide a certification in its application that it is located in a jurisdiction that is part of one of the applicable federally declared disaster areas and must provide appropriate supporting documentation, if requested.

We are not reopening the application period for all applicants. Thus, applications from applicants that are not affected applicants may not be submitted as part of this reopened period for submission of applications.

Note: All information in the NIA remains the same, except for the deadline date for affected applicants and the deadline for intergovernmental review.

Program Authority: 20 U.S.C. 7261.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.

[FR Doc. 2021-19283 Filed 9-7-21; 8:45 am]

BILLING CODE 4000-01-P